ENVIRONMENTAL PROTECTION AGENCY

[ER-FRL-9046-2]

Environmental Impact Statements; Notice of Availability

Responsible Agency: Office of Federal Activities, General Information 202-564-5632 or https://www.epa.gov/nepa/.

Weekly receipt of Environmental Impact Statements

Filed 07/29/2019 Through 08/02/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190179, Final, USFWS, CA, Delta Research Station Project: Estuarine Research Station and Fish Technology Center, Review Period Ends: 09/09/2019, Contact: Robert Clarke 916-414-6581

EIS No. 20190180, Draft, BLM, NM, Borderlands Wind Project Draft Environmental Impact Statement and Resource Management Plan Amendment, Comment Period Ends: 11/07/2019, Contact: James Stobaugh 775-861-6478

EIS No. 20190181, Draft, NRC, PA, Generic Environmental Impact Statement for License Renewal of Nuclear Plants, Supplement 10, Second Renewal, Regarding Subsequent License Renewal for Peach Bottom Atomic Power Station Units 2 and 3, Comment Period Ends: 09/23/2019, Contact: David Drucker 301-415-6223

EIS No. 20190182, Draft, USFS, NM, Carson National Forest Revision of Land Management Plan, Comment Period Ends: 11/07/2019, Contact: Peter Rich 575-758-6277

EIS No. 20190183, Draft, USAF, WI, United States Air Force F-35A Operational Beddown Air National Guard, Comment Period Ends:09/27/2019, Contact: Ramon Ortiz 240-612-7042

EIS No. 20190184, Draft, USFS, NM, Cibola National Forest Draft Land Management Plan Draft Environmental Impact Statement, Comment Period Ends: 11/07/2019, Contact: Sarah Browne 505-346-3812

EIS No. 20190185, Draft, USFS, NM, Santa Fe National Forest Land Management Plan Revision, Comment Period Ends: 11/07/2019, Contact: Jennifer Cramer 505-438-5449

EIS No. 20190186, Draft, BIA, NV, Eagle Shadow Mountain Solar Project, Comment Period Ends: 09/23/2019, Contact: Chip Lewis 602-379-6750

EIS No. 20190187, Draft, NPS, CA, Point Reyes National Seashore General Management Plan Amendment, Comment Period Ends: 09/23/2019, Contact: Cicely Muldoon 415-464-5101

EIS No. 20190188, Final, USFS, CA, San Gabriel River Confluence With Cattle Canyon Improvements Project, Review Period Ends: 09/09/2019, Contact: Jeremy Sugden 626-335-1251 x222

EIS No. 20190189, Draft, USFS, AZ, Resolution Copper Project and Land Exchange, Comment Period Ends: 11/07/2019, Contact: Mary C. Rasmussen 602-225-2500

Amended Notice

EIS No. 20190170, Draft, BR, CA, San Luis Low Point Improvement Project Draft Environmental Impact Statement/Environmental Impact Report, Comment Period Ends: 09/24/2019, Contact: Nicole S. Johnson 916-978-5085

Revision to FR Notice Published 07/26/2019; Extending the Comment Period from 09/09/2019 to 09/24/2019.

Dated: August 5, 2019.
Candi Schaedle,
Acting Director, Office of Federal Activities.

[FR Doc. 2019-17048 Filed 8-8-19; 8:45 a.m.]

BILLING CODE 6560-50-P